DEPARTMENT OF TRANSPORTATION

Federal Aviation Administration

14 CFR Part 71

[Docket No. FAA-2017-0116; Airspace Docket No. 17-AGL-2]

RIN 2120-AA66

Amendment of Air Traffic Service (ATS) Routes Q-917 and Q-923; Northcentral United States

AGENCY: Federal Aviation Administration (FAA), DOT.

ACTION: Final rule, technical amendment.

SUMMARY: The FAA is amending two high altitude area navigation (RNAV) Q-routes that cross the United States (U.S.)/Canada border in the northcentral U.S. to update the waypoint name for one Canadian waypoint listed in the Q-route descriptions. Specifically, this action changes the SASUT waypoint name to DUTEL in RNAV routes Q-917 and Q-923 to match the waypoint information contained in the FAA and Canadian aeronautical databases. No air traffic services are affected by this action.

DATES: Effective date 0901 UTC, June 22, 2017. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the route structure as required to preserve the safe and efficient flow of air traffic across the U.S./Canadian border.

History

On September 26, 2014, the FAA published in the Federal Register a final rule (79 FR 57758), Docket No. FAA-2014-0295, that amended, removed, and established multiple ATS routes in the northcentral U.S. to reflect and accommodate route changes being made in Canadian airspace as part of a Canadian airspace redesign project. The FAA recently identified that the SASUT waypoint name duplicates an existing waypoint name in Mexico and advised NAV CANADA accordingly. NAV CANADA has elected to change the SASUT waypoint name to DUTEL to overcome any potential confusion created by the SASUT waypoint name being used in Canada and Mexico.

This rule makes the editorial waypoint name correction to match the FAA and Canadian aeronautical databases. On January 19, 2017, the FAA issued a final rule; technical amendment that updated the geographical coordinates for five Canadian waypoints, including SASUT (82 FR 6212), Docket No. FAA-2016-9319. That final rule becomes effective on April 27, 2017. The geographic coordinates for DUTEL (SASUT) in the legal description in this rule reflect the updated coordinates.

High altitude Canadian RNAV routes (Q-routes) are published in paragraph 2007 of FAA Order 7400.11A dated August 3, 2016, and effective September 15, 2016, which is incorporated by reference in 14 CFR 71.1. The high altitude Canadian RNAV routes (Q-routes) listed in this rule will be subsequently published in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14, Code of Federal Regulations (14 CFR) part 71 by modifying RNAV routes Q-917 and Q-923. The route modifications are editorial in nature and change the SASUT waypoint name to DUTEL to match the FAA and Canadian aeronautical databases information. No air traffic services are affected by this action and no substantive changes to the RNAV routes are being made. Therefore, notice and public procedures under 5 U.S.C. 553(b) is unnecessary.

The RNAV route modifications accomplished by this action are outlined below.

Q-917: change the SASUT waypoint name from “SASUT” to “DUTEL.”

Q-923: change the SASUT waypoint name from “SASUT” to “DUTEL.”

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of modifying two high altitude RNAV Q-routes by updating the waypoint name for one Canadian waypoint listed in the Q-route descriptions has no potential to cause any significant environmental impacts, and no extraordinary circumstances exist that warrant preparation of an environmental assessment. Therefore, this proposed airspace action qualifies for categorical exclusion under the National Environmental Policy Act and its implementing regulations at 40 CFR part 1500-1508, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 2007 Canadian Area Navigation Routes.

* * * * *

Q-917 Sault Ste Marie, MI (SSM) to WOZEE, NY [Amended]
Sault Ste Marie, MI (SSM) | VOR/DME | (Lat. 46°24′43.60″ N., long. 084°18′53.54″ W.)
ULUTO, Canada | WP | (Lat. 46°18′16.00″ N., long. 084°05′41.00″ W.)
VIGLO, Canada | WP | (Lat. 45°23′48.00″ N., long. 082°25′11.00″ W.)
DUTEL, Canada | WP | (Lat. 44°39′59.00″ N., long. 081°17′47.00″ W.)
PEPLA, Canada | WP | (Lat. 43°47′50.98″ N., long. 080°00′53.56″ W.)
HOZIR, NY | WP | (Lat. 43°06′03.59″ N., long. 079°02′05.27″ W.)
WOZEE, NY | WP | (Lat. 42°56′01.65″ N., long. 078°44′19.64″ W.)
Excluding the airspace within Canada.
* * * * * * *
Q-923 HOCKE, MI to DUTEL, Canada [Amended]
HOCKE, MI | WP | (Lat. 43°15′43.38″ N., long. 082°42′38.27″ W.)
KARIT, MI | WP | (Lat. 43°43′23.00″ N., long. 082°08′40.00″ W.)
DUTEL, Canada | WP | (Lat. 44°39′59.00″ N., long. 081°17′47.00″ W.)
Excluding the airspace within Canada.
* * * * * * *

Issued in Washington, DC, on March 1, 2017.
Rodger A. Dean Jr.,
Manager, Airspace Policy Group.

[FR Doc. 2017-04568 Filed 3-8-17; 8:45 am]

BILLING CODE 4910-13-P